DEPARTMENT OF HEALTH AND HUMAN SERVICES

Centers for Disease Control and Prevention

Advisory Committee for Injury Prevention and Control: Notice of Charter Renewal

This gives notice under the Federal Advisory Committee Act (Pub. L. 92-463) of October 6, 1972, that the Advisory Committee for Injury Prevention and Control, Centers for Disease Control and Prevention, Department of Health and Human Services, has been renewed for a 2-year period through October 28, 2008.

For information, contact Amy Harris, Executive Secretary, Advisory Committee for Injury Prevention and Control, Centers for Disease Control and Prevention, Department of Health and Human Services, 1600 Clifton Road, NE., Mailstop K61, Atlanta, Georgia 30333, telephone 770/488-1484 or fax 770/488-4222.

The Director, Management Analysis and Services Office, has been delegated the authority to sign Federal Register notices pertaining to announcements of meetings and other committee management activities, for both the Centers for Disease Control and Prevention and the Agency for Toxic Substances and Disease Registry.

Dated: November 6, 2006.
Alvin Hall,
Director, Management Analysis and Services Office, Centers for Disease Control and Prevention.

[FR Doc. E6-19151 Filed 11-13-06; 8:45 am]

BILLING CODE 4163-18-P